DEPARTMENT OF COMMERCE

International Trade Administration

Notice and Call for Applications for Trade Mission to Warsaw, Poland in Conjunction With Trade Winds Forum Europe, April 19-22, 2009

AGENCY: International Trade Administration, Department of Commerce.

ACTION: Notice and Call for Applications for the Trade Mission to Warsaw, Poland in conjunction with Trade Winds Forum Europe, April 19-22, 2009.

I. Mission Description

The United States Department of Commerce, International Trade Administration, U.S. and Foreign Commercial Service is organizing a trade mission to Warsaw, Poland, April 22, 2009, in conjunction with the Trade Winds Europe Business Development Forum in Warsaw, Poland, April 19-21, 2009.

The 2009 Trade Winds Forum Europe will include general conference sessions on pan-European business issues and pre-arranged consultations with Senior Commercial Officers from U.S. Embassies throughout Europe. The Trade Mission to Poland will add another dimension to the event by providing clients with the opportunity to conduct business to business meeting with firms in Poland. It will be open to U.S. companies from a cross section of industries with growing potential in Poland, including, but not limited to, best prospects such as energy (mining, oil and gas, electric power generation, renewable), defense and aerospace, telecommunications and information technology, environmental technologies, medical equipment, safety and security equipment, automotive parts and service equipment, and logistics and transportation.

The combination of the Trade Winds Forum Europe conference and the multi-sector trade mission in Poland will provide participants with substantive knowledge and strategies for entering or expanding their business in the European market and Poland specifically.

II. Commercial Setting

Europe: Together, the United States and Europe account for more than 40 percent of the global economy and transact more than $1.5 trillion per year in trade and investment. Europe is often among the first export markets for U.S. companies. When businesses look to Europe, they are looking to opportunities unparalleled in any other region. Europe is much broader than the 27-member European Union (EU), and opportunities are abundant. For example, the European Economic Area and the European Free Trade Association (EFTA) countries have harmonized many of their regulations with the European Union. The EFTA countries (Norway, Iceland, Liechtenstein and Switzerland), though small in population, are among the wealthiest in the world on a per capita basis.

The introduction in many EU member states of a common currency, the euro, and mutual recognition of standards has made the European market both more competitive and more open. While the European market for U.S. goods and services is truly a single market for some items, it is still fragmented along country, language, cultural, or regional lines for others. With the ongoing consolidation of distribution channels and retailers, marketing for many goods can now be done with a pan-European perspective. However, for other items—particularly specialty products—the retail outlets, distributors and end-users are still local, and the best coverage for such markets will likely be on a regional basis that might even divide Europe's larger countries into more than one market.

Poland constitutes a market of 38 million people located in the heart of central Europe. It has become a fully integrated member of the EU since its May 2004 accession, adhering to common economic, structural and commercial policies, including adoption of the common external tariff regime. The United States and Poland enjoy an extraordinarily close relationship that has fostered strategic and commercial cooperation. There are abundant opportunities for U.S. firms in Poland, given the country's rapid economic growth, the size and location of the market, the access it affords to the larger EU market, and the strong affinity Poles have for the United States.

Poland's economy grew at a rate in excess of 6.5% in 2007 and is projected to grow by at least 5% in 2008. It has enjoyed 17 straight years of economic expansion, fueled by high export output, individual consumption, and increased business investment, including new foreign direct investment totaling approximately $15 billion in 2007. The United States claims roughly 3% of Poland's import market. Trade volume is expected to continue increasing due to the depreciated U.S. dollar, increased domestic demand, and overall affinity for U.S. products. Excellent opportunities exist for U.S. exporters in a range of sectors, particularly in the above-cited best prospects areas.

III. Mission Goals

The goal of the mission is to help the U.S. companies find potential partners, agents, distributors, and joint venture partners in the Polish market, laying the foundation for successful long-term ventures. The delegation will have access to Senior Commercial Officers during the mission, learn about the expansive business opportunities in Poland, and gain first-hand market exposure. U.S. delegation members already doing buisness in Poland will have opportunities to further advance business relationships and transactions in that market.

IV. Mission Scenario

The mission will include pre-screened, individual appointments with potential business partners; industry/country market briefings; logistical support; networking opportunities with leading industry and government officials; and full conference registration for the Trade Winds Forum Europe, April 19-21, 2009, including conference materials and admission to all conference sessions and networking events.

U.S. delegation members will arrive in Warsaw on or before April 19, 2009, to attend the opening ceremony of the Trade Winds Forum Europe. The final day of the Forum, April 21, 2009, will be devoted to market briefings and consultations with Europe-based Senior Commercial Officers. On April 22, 2009, mission participants will take part in the business-to-business meetings with Polish firms, and the mission will conclude with a networking reception hosted by the Senior Commercial Officer based in the U.S. Embassy in Poland.

V. Mission Timetable

April 19, 2009 Arrive Warsaw, Trade Winds Forum Europe registration Welcome reception.

April 20, 2009 Trade Winds Forum Europe—Conference sessions.

April 21, 2009 Trade Winds Forum Europe, Briefings and Consultations with Senior Commercial Officers Forum concludes.

April 22, 2009 Trade Mission takes place, featuring one-on-one business appointments with pre-screened, private-sector Polish companies.

VI. Participation Requirements

All parties interested in participating in the Commercial Service Trade Mission to Poland must complete and submit an application package for consideration by the Department of Commerce. All applicants will be evaluated on their ability to meet certain conditions and best satisfy the selection criteria as outlined below. A maximum of 50 companies will be selected to participate in the mission from the applicant pool. U.S. companies already doing business with Poland as well as U.S. companies seeking to enter Poland for the first time may apply.

Fees and Expenses

After a company has been selected to participate on the mission, a payment to the Department of Commerce in the form of a participation fee is required. The participation fee will be $1,650 for a small or medium-sized enterprise (SME) * and $2,850 for large firms. This fee includes the Trade Winds Forum Europe conference registration fee of $650. The fee for each additional firm representative (large firm or SME) participating in the mission is $650. Expenses for travel, lodging, most meals, and incidentals will be the responsibility of each mission participant.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation: Selection will be based on the following criteria:

• Relevance of a company's business line to mission goals.

• Company's potential for business in Poland.

Referrals from political organizations and any documents containing references to partisan political activities (including political contributions) will be removed from an applicant's submission and not considered during the selection process.

VII. Timeframe for Recruitment and Applications

Mission recruitment will be conducted in an open and public manner, including publication in the Federal Register, posting on the Commerce Department trade mission calendar— http://www.ita.doc.gov/doctm/tmcal.html—and other Internet web sites, press releases to the general and trade media, direct mail and broadcast fax, notices by industry trade associations and other multiplier groups, and announcements at industry meetings, symposia, conferences, and trade shows. Recruitment for the mission will begin September 1, 2008, and conclude no later than January 30, 2009. The mission will open on a first come first served basis. Applications received after January 30, 2009, will be considered only if space and scheduling constraints permit.

U.S. Contact Information: Bill Burwell, Director, Mid-Atlantic Network, U.S. Department of Commerce, U.S. Export Assistance Center—Baltimore, Bill.Burwell@mail.doc.gov, Tel: 410-962-3097—Cell: 443-271-8796, Fax: 410-962-4529.

Debora Sykes, ITS, Mid-Atlantic Network, U.S. Department of Commerce, U.S. Export Assistant Center—Trenton, Debora.Sykes@mail.doc.gov, Tel: 856-722-1032—Cell: 609-571-7525, Fax: 856-722-0716.

Poland Contact Information: John McCaslin, Commercial Counselor, U.S. Commercial Service, U.S. Embassy—Warsaw, Poland, Tel: 48-22-625-4374, Fax: 48-22-621-6327, John.McCaslin@mail.doc.gov.

Dated: September 29, 2008.
Bill Burwell,
Director, Mid-Atlantic Network, U.S. Department of Commerce, U.S. Export Assistance Center—Baltimore, U.S. Department of Commerce.

[FR Doc. E8-23412 Filed 10-2-08; 8:45 am]

BILLING CODE 3510-DS-P